U.S.-CHINA ECONOMIC AND SECURITY REVIEW COMMISSION

Notice of Open Meetings To Prepare Report to Congress

Advisory Committee: U.S.-China Economic and Security Review Commission.

ACTION: Notice of open meetings to prepare 2008 Annual Report to Congress—August 14, 2008, September 24-25, 2008, October 6-7, 2008 and October 20-22, 2008 in Washington, DC.

SUMMARY: Notice is hereby given of meetings of the U.S.-China Economic and Security Review Commission.

Name: Larry Wortzel, Chairman of the U.S.-China Economic and Security Review Commission.

The Commission is mandated by Congress to investigate, assess, evaluate and report to Congress annually on the U.S.-China economic and security relationship. The mandate specifically charges the Commission to prepare a report to the Congress “regarding the national security implications and impact of the bilateral trade and economic relationship between the United States and the People's Republic of China [that] shall include a full analysis, along with conclusions and recommendations for legislative and administrative actions * * *”

Purpose of Meetings: Pursuant to this mandate, the Commission will meet in Washington, DC on August 14, September 24-25, October 6-7, and October 20-22, 2008, to consider the first and later rounds of drafts of material for its 2008 Annual Report to Congress that have been prepared for its consideration by the Commission staff, and to make modifications to those drafts that Commission members believe are needed.

Topics to be Discussed: The Commissioners will be considering draft Report sections addressing the following topics:

• The United States-China trade and economic relationship, including the relationship's current status; significant changes during 2008; the control of China's economy by its government, and the effect of that control on the United States.

• The implications of China's Sovereign Wealth Fund; seafood imports from China into Louisiana and the U.S. Gulf Coast; and R&D activities in China and resulting technology transfers to China for the U.S. economy and security.

• China's Activities Directly Affecting U.S. Security Interests, including China's proliferation policies and practices and China's space and cyber activities.

• China's Energy and Environmental Policies and Activities, including bilateral and multilateral energy and environment agreements; and China's efforts pertaining to climate change.

• China's Foreign and Regional Activities and Relationships in East Asia including those pertaining to Taiwan, Japan, and South Korea, and to its own special administrative region of Hong Kong.

• China's Media and Information Controls

• China's Compliance with the U.S.-China Memorandum of Understanding on China's Use of Prison Labor

Dates and Times (Eastern Daylight Time)

—Thursday, August 14, 2008 (10 a.m. to 4 p.m.)

—Wednesday, September 24, 2008 (1 p.m. to 5 p.m.)

—Thursday, September 25, 2008 (10 a.m. to 4 p.m.);

—Monday and Tuesday, October 6-7, 2008 (10 a.m. to 4 p.m.);

—Monday, October 20, 2008 (12 p.m. to 4 p.m.)

—Tuesday and Wednesday, October 21-22, 2008 (10 a.m. to 4 p.m.).

ADDRESSES: All meetings will be held in Conference Room 333 (3rd floor), except the meeting on September 25 will be held in Conference Room 231 (2nd floor), of The Hall of the States located at 444 North Capitol Street, NW., Washington, DC 20001. Public seating is limited, and will be available on a “first-come, first-served” basis. Advance reservations are not required. All participants must register at the front desk of the lobby.

Required Accessibility Statement: The entirety of these Commission editorial and drafting meetings will be open to the public. The Commission may recess the public editorial/drafting meetings to address administrative issues in closed session.

FOR FURTHER INFORMATION CONTACT: Kathy Michels, Associate Director, U.S.-China Economic and Security Review Commission, 444 North Capitol Street, NW., Suite 602, Washington DC 20001; phone 202-624-1409; e-mail kmichels@uscc.gov.

Authority: Congress created the U.S.-China Economic and Security Review Commission in 2000 in the National Defense Authorization Act (Public Law 106-398), as amended by Division P of the Consolidated Appropriations Resolution, 2003 (Public Law 108-7), as amended by Public Law 109-108 (November 22, 2005).

Dated: July 23, 2008.
Kathleen J. Michels,
Associate Director, U.S.-China Economic and Security Review Commission.

[FR Doc. E8-17299 Filed 7-28-08; 8:45 am]

BILLING CODE 1137-00-P